DEPARTMENT OF HEALTH AND HUMAN SERVICES

Office of the Secretary

Agency Information Collection Activities; Proposed Collections; Comment Request

The Department of Health and Human Services, Office of the Secretary will periodically publish summaries of proposed information collections projects and solicit public comments in compliance with the requirements of Section 3506(c)(2)(A) of the Paperwork Reduction Act of 1995. To request more information on the project or to obtain a copy of the information collection plans and instruments, call the OS Reports Clearance Officer on (202) 690-6207.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Projects 1. National Study of Child Protective Services Systems and Reform Efforts—NEW—The Office of the Assistant Secretary for Planning and Evaluation is proposing to conduct a study which will document the evolving practices underway in the field of Child Protective Services (CPS). Specifically, State officials will be interviewed to obtain an updated picture of current policy; local CPS agencies serving a stratified random sample of 150 counties will be surveyed and; on-site visits will be conducted at 9-12 local CPS agencies that are implementing innovative practices in their delivery of services. For burden estimates see table.

Instrument | Number of respondents | Responses | Hours per response | Total hours
State—CPS Directors | 51 | 1 | 2 | 102
State—Hotline | 25 | 1 | 1 | 25
Local Survey—Administration | 150 | 1 | .5 | 75
Local Survey—Intake | 150 | 1 | 1 | 150
Local Survey—Investigation | 225 | 1 | 1 | 225
Local Survey—Other CPS Resp | 100 | 1 | 1 | 100
Local Survey—New Directions | 150 | 1 | 1 | 150
Local Survey—Additional | 40 | 1 | 1 | 40
Site Visit—Director Interview | 12 | 1 | 1 | 12
Site Visit—Reform Managers | 16 | 1 | 2 | 32
Site Visit—Worker Focus Group | 60 | 1 | 2 | 120
Site Visit—External Managers | 40 | 1 | 2 | 80
Site Visit—Manager Focus Group | 96 | 1 | 2 | 192
Total | 1,115 |  |  | 1,303

Send comments to Cynthia Agens Bauer, OS Reports Clearance Officer, Room 503H, Humphrey Building, 200 Independence Avenue SW., Washington, DC 20201. Written comments should be received within 60 days of this notice.

Dated: May 3, 2001.
Kerry Weems,
Acting Deputy Assistant Secretary, Budget.

[FR Doc. 01-11731 Filed 5-9-01; 8:45 am]

BILLING CODE 4154-05-M